DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5 P.M. in Room 4211, U.S. Department of Commerce, 14th Street and Constitution Avenue, N.W., Washington, D.C.

Docket Number: 01-005. Applicant: Pennsylvania State University, Physics Department, 104 Davey Laboratory, University Park, PA 16802-6300. Instrument: Dilution Refrigerator and Superconducting Magnet System, Models 126-250 TOF and 6T-76-H3. Manufacturer: Leiden Cryogenics B.V., The Netherlands. Intended Use: The instrument is intended to be used to carry out electrical, magnetic and thermodynamic measurements at the lowest possible temperature and under a magnetic field up to 6 Tesla, of metallic systems infiltrated into ordered porous media. It is possible that these studies will also bring forth new application and further reduce the sizes of electronic devices in the future. Application accepted by Commissioner of Customs: January 30, 2001.

Gerald A. Zerdy,
Program Manager, Statutory Import Programs Staff.

[FR Doc. 01-3876 Filed 2-14-01; 8:45 am]

BILLING CODE 3510-DS-P